DEPARTMENT OF LABOR

Office of Disability Employment Policy

Advisory Committee on Increasing Competitive Integrated Employment for Individuals With Disabilities; Notice of Meeting

The Advisory Committee on Increasing Competitive Integrated Employment for Individuals with Disabilities (the Committee) was mandated by section 609 of the Rehabilitation Act of 1973, as amended by section 461 of the Workforce Innovation and Opportunity Act. The Secretary of Labor established the Committee on September 15, 2014 in accordance with the provisions of the Federal Advisory Committee Act, as amended, 5 U.S.C. App. 2. The purpose of the Committee is to study and prepare findings, conclusions and recommendations for Congress and the Secretary of Labor on (1) ways to increase employment opportunities for individuals with intellectual or developmental disabilities or other individuals with significant disabilities in competitive, integrated employment; (2) the use of the certificate program carried out under section 14(c) of the Fair Labor Standards Act of 1938 (29 U.S.C. 214(c)); and (3) ways to improve oversight of the use of such certificates.

The Committee is required to meet no less than eight times. It is also required to submit an interim report within one year of the Committee's establishment to: The Secretary of Labor; the Senate Committee on Health, Education, Labor and Pensions; and the House Committee on Education and the Workforce by September 15, 2015. A final report must be submitted to the same entities no later than two years from the Committee establishment date. The Committee terminates one day after the submission of the final report.

The next meeting of the Committee will take place on Wednesday, October 14, 2015, and Thursday, October 15, 2015. The meeting will be open to the public on Wednesday, October 14th from 8:30 a.m. to 5:00 p.m. Eastern Daylight Time (EDT). On Thursday, October 15th, the meeting will be open to the public from 8:00 a.m. to 4:00 p.m. EDT. The meeting will take place at the U.S. Access Board, 1331 F Street NW., Suite 800, Washington, DC 20004-1111.

On October 14th and 15th, the four subcommittees of the Committee will report out on their work since the last meeting of the Committee on August 10th. The four subcommittees are: The Transition to Careers Subcommittee, the Complexity and Needs in Delivering Competitive Integrated Employment Subcommittee, the Marketplace Dynamics Subcommittee, and the Building State and Local Capacity Subcommittee. Each subcommittee will have 30 minutes to present its most recent work for full discussion by the Committee. In addition, the whole Committee will discuss next steps and timelines for the final report of the Committee.

In addition, the Committee will hear from several different panels on a number of topics, including, but not limited to: An expert panel from AbilityOne®, SourceAmerica, and National Industries for the Blind, a panel of individuals with disabilities who work in center-based workshops, and a panel of students with disabilities addressing the problems of finding a job after completing postsecondary education.

Members of the public who wish to address the Committee on the interim report or other matters before the Committee during the public comment period of the meeting on Wednesday, October 14th between 1:00 p.m. and 2:45 p.m., EDT, should send their name, their organization's name (if applicable) and any additional materials (such as a copy of the proposed testimony) to David Berthiaume at Berthiaume.David.A@dol.gov or call Mr. Berthiaume at (202) 693-7887 by Friday, October 2nd. Members of the public will have the option of addressing the Committee in person or remotely by phone. If the Committee receives more requests than we can accommodate during the public comment portion of the meeting, we will select a representative sample to speak and the remainder will be permitted to file written statements. Individuals with disabilities who need accommodations should also contact Mr. Berthiaume at the email address or phone number above.

Organizations or members of the public wishing to submit comments and feedback on the interim report or general feedback may do so by using the form found at: www.acicieid.org/comments. All comments received prior to October 2, 2015, will be forwarded to the Committee in advance of the October meeting. The interim report was submitted to Congress and the Secretary of Labor on September 15, 2015.

Members of the public may also submit comments in writing on or before October 2, 2015, to David Berthiaume, Advisory Committee on Increasing Competitive Integrated Employment for Individuals with Disabilities, U.S. Department of Labor, Suite S-1303, 200 Constitution Avenue NW., Washington, DC 20210. Please ensure that any written submission is in an accessible format or the submission will be returned. Written statements deemed relevant by the Committee and received on or before October 2, 2015, will be included in the record of the meeting. Do not include any personally identifiable information (such as name, address, or other contact information) or confidential business information that you do not want publicly disclosed.

Signed at Washington, DC, this 15th day of September, 2015.
Jennifer Sheehy,
Acting Assistant Secretary, Office of Disability Employment Policy.

[FR Doc. 2015-24105 Filed 9-21-15; 8:45 am]

BILLING CODE 4510-23-P